DEPARTMENT OF HOMELAND SECURITY

U.S. Customs and Border Protection

U.S. Customs and Border Protection 2017 East Coast Trade Symposium

AGENCY: U.S. Customs and Border Protection (CBP), Department of Homeland Security (DHS).

ACTION: Notice of trade symposium.

SUMMARY: This document announces that U.S. Customs and Border Protection (CBP) will convene the 2017 East Coast Trade Symposium (ECTS) in Atlanta, GA, on Tuesday, December 5, 2017, and Wednesday, December 6, 2017. The 2017 ECTS will feature panel discussions involving agency personnel, members of the trade community, and other government agencies on the agency's role in international trade initiatives and programs. Members of the international trade and transportation communities and other interested parties are encouraged to attend.

DATES: Tuesday, December 5, 2017 (opening remarks and general sessions, 8:00 a.m.-5:00 p.m. EST), and Wednesday, December 6, 2017 (break-out sessions, 8:00 a.m.-5:00 p.m. EST).

Registration for Symposium: Registration will be open from 12:00 p.m. EDT on October 26, 2017, to 4:00 p.m. EST on November 17, 2017.

ADDRESSES:

Location of Symposium: The CBP 2017 ECTS will be held at the Marriott Marquis at 265 Peachtree Center Ave., Atlanta, GA 30303.

Registration Address: All registrations must be made online at the CBP Web site (http://www.cbp.gov/trade/stakeholder-engagement/trade-symposium) and will be confirmed with payment by credit card only.

FOR FURTHER INFORMATION CONTACT: The Office of Trade Relations at (202) 344-1440, or at tradeevents@dhs.gov. To obtain the latest information on the Trade Symposium and to register online, visit the CBP Web site at http://www.cbp.gov/trade/stakeholder-engagement/trade-symposium.

For information on facilities or services for individuals with disabilities or to request special assistance at the meeting, contact Ms. Daisy Castro, Office of Trade Relations, U.S. Customs & Border Protection at (202) 344-1440 or the Office of Trade Relations at tradeevents@dhs.gov as soon as possible.

SUPPLEMENTARY INFORMATION: This document announces that CBP will convene the 2017 East Coast Trade Symposium on Tuesday, December 5, 2017, and Wednesday, December 6, 2017, in Atlanta, GA. The format of the 2017 ECTS will be general sessions on the first day and breakout sessions on the second day. The 2017 ECTS will feature panel discussions involving agency personnel, members of the trade community, and other government agencies on the agency's role in international trade initiatives and programs. The symposium will include discussions regarding Modernization of Imports and Exports, Intelligent Enforcement, Western Hemisphere Customs issues, and Border Interagency Executive Council.

The agenda for the 2017 ECTS can be found on the CBP Web site (http://www.cbp.gov/trade/stakeholder-engagement/trade-symposium). Registration will be open from 12:00 p.m. EDT on October 26, 2017, to 4:00 p.m. EST on November 17, 2017. The registration fee is $139.00 per person. Interested parties are requested to register immediately, as space is limited. All registrations must be made online at the CBP Web site (http://www.cbp.gov/trade/stakeholder-engagement/trade-symposium) and will be confirmed with payment by credit card only. Members of the public who are pre-registered to attend and later need to cancel, please do so by utilizing the following link: tradeevents@dhs.gov. Please include your confirmation number with your cancellation request.

Hotel accommodations have been made at the Marriott Marquis at 265 Peachtree Center Ave., Atlanta, GA 30303. Hotel room block reservation information can be found on the CBP Web site (http://www.cbp.gov/trade/stakeholder-engagement/trade-symposium).

Dated: October 30, 2017.
Bradley F. Hayes,
Executive Director, Office of Trade Relations.

[FR Doc. 2017-24000 Filed 11-2-17; 8:45 am]

BILLING CODE 9111-14-P